ENVIRONMENTAL PROTECTION AGENCY

[OPP-00682; FRL-6750-7]

Notice of Availability of Pesticide Data Submitters List

AGENCY: Environmental Protection Agency (EPA).

ACTION: Notice.

SUMMARY: This notice announces the availability of an updated version of the Pesticide Data Submitters List which supersedes and replaces all previous versions.

FOR FURTHER INFORMATION CONTACT: By mail: John Jamula, Office of Pesticide Programs (7502C), Environmental Protection Agency, 1200 Pennsylvania Avenue, NW, Washington, DC 20460.Office location for commercial courier delivery, telephone number and e-mail address: Rm. 226, Crystal Mall No. 2, 1921 Jefferson Davis Highway, Arlington, VA 22202, (703) 305-6426; e-mail: jamula.john@epamail.epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Additional Information, Including Copies of this Document and Other Related Documents?

1. By mail: Microfiche copies of the document are available from the National Technical Information Service (NTIS) ATTN: order Desk, 5285 Port Royal Road, Springfield, VA 22161. Telephone: 1-800-553-6847. When requesting a document from NTIS, please provide its name and NTIS Publication Number (PB). The NTIS Publication for this version of the Pesticide Data Submitters List is PB 2000-102113.

2. Electronically: The Pesticide Data Submitters List is available of EPA's worldwide web site on the Internet. The Internet address of EPA's web site is www.epa.gov. The Pesticide Data Submitters list may be found by searching for the keywords “datasubmitterslist” from this page, or may be access directly on the EPA web site, by going directly to the address listed below.Note that this address is case sensitive: http://www.epa.gov./oppmsd1/DataSubmittersList/index.html

II. What Action is the Agency Taking?

The Pesticide Data Submitters List is a compilation of names and addresses of registrants who wish to be notified and offered compensation for use of their data. It was developed to assist pesticide applicants in fulfilling their obligation as required by sections 3(c)(1)(f) and 3(c)(2)(D) of the Federal Insecticide,Fungicide, and Rodenticide Act (FIFRA) and 40 CFR part 152 subpart E regarding ownership of data used to support registration. This notice announces the availability of an updated version of the Pesticide Data Submitters List which supersedes and replaces all previous versions.

List of Subjects

Environmental protection, Administrative practice and procedure, Pesticides and pests, Reporting and recordkeeping requirements.

Dated: October 10, 2000.
Richard D. Schmitt,
Associate Director, Information Resources and Services Division,Office of Pesticide Programs.

[FR Doc. 00-26752 Filed 10-17-00; 8:45 a.m.]

BILLING CODE 6560-50-S